DEPARTMENT OF ENERGY

Federal Energy Regulatory Commission

[Docket No. CP23-194-000]

Transcontinental Gas Pipe Line Company, LLC; Notice of Schedule for the Preparation of an Environmental Assessment for the Alabama Georgia Connector Project

On April 19, 2023, Transcontinental Gas Pipe Line Company, LLC (Transco) filed an application in Docket No. CP23-194-000 requesting a Certificate of Public Convenience and Necessity pursuant to section 7(c) of the Natural Gas Act to construct and operate certain natural gas pipeline facilities. The proposed project is known as the Alabama Georgia Connector Project (Project), and would provide Transco's Project Customers with firm access to 63,800 dekatherms per day of incremental natural gas supply, increase overall system reliability, and add natural gas infrastructure to meet growing demand in Georgia.

On May 3, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—November 27, 2023

90-day Federal Authorization Decision Deadline ²—February 25, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Transco proposes to construct and operate various modifications at five existing compressor stations in Marengo and Randolph Counties, Alabama, and Coweta, Henry, and Walton Counties, Georgia. These modifications include re-wheeling two existing compressors at Compressor Station 90 in Marengo County; increasing horsepower (hp) of two natural gas-fired compressor units from 35,500 hp to 39,365 hp at Compressor Station 110 in Randolph County; re-wheeling three compressor units at Compressor Station 115 in Coweta County; replacing a 12,000 hp compressor unit with a 22,500 hp unit at Compressor Station 120 in Henry County; and increasing the hp of Compressor Station 125 in Walton County from 49,800 hp to 55,800 hp.

Background

On June 2, 2023, the Commission issued a Notice of Scoping Period Requesting Comments on Environmental Issues for the Proposed Alabama Georgia Connector Project (Notice of Scoping). The Notice of Scoping was sent to affected landowners; federal, state, and local government agencies; elected officials; environmental and public interest groups; Native American tribes; other interested parties; and local libraries and newspapers. All substantive comments received in response to the Notice of Scoping will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members, and others access publicly available information and navigate the Commission processes. For public inquiries and assistance with making filings such as interventions, comments, or requests for rehearing, the public is encouraged to contact OPP at (202)502-6595 or OPP@ferc.gov.

Additional information about the Project is available from the Commission's Office of External Affairs at (866) 208-FERC or on the FERC website (www.ferc.gov). Using the “eLibrary” link, select “General Search” from the eLibrary menu, enter the selected date range and “Docket Number” (i.e., CP23-194), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 12, 2023.
Kimberly D. Bose,
Secretary.

[FR Doc. 2023-12945 Filed 6-15-23; 8:45 am]

BILLING CODE 6717-01-P